EQUAL EMPLOYMENT OPPORTUNITY COMMISSION

Agency Information Collection Activities: Notice of Submission for OMB Review; Final Comment Request

AGENCY: Equal Employment Opportunity Commission.

ACTION: Notice of Information Collection—Uniform Guidelines on Employee Selection Procedures.

SUMMARY: In accordance with the Paperwork Reduction Act of 1995, the Equal Employment Opportunity Commission hereby gives notice that it is submitting the information collection described below to the Office of Management and Budget for a three-year authorization.

DATES: Written comments on this final notice must be submitted on or before August 25, 2008.

ADDRESSES: The Request for Clearance (SF 83-I) and supporting statement submitted to OMB for review may be obtained from: Carol R. Miaskoff, Assistant Legal Counsel, Office of Legal Counsel, Equal Employment Opportunity Commission, 1801 L Street, NW., Washington, DC 20507. Comments on this final notice must be submitted to Chandana Achanta, Office of Information and Regulatory Affairs, Office of Management and Budget, 725 17th Street, NW., Room 10235, New Executive Office Building, Washington, DC 20503, or electronically mailed to: Chandana_L._Achanta@omb.eop.gov.

Copies of comments should be submitted to the EEOC using one of the following methods:

• By the Federal eRulemaking Portal: http://www.regulations.gov. After accessing this Web site, follow its instructions for submitting comments.

• By mail to Stephen Llewellyn, Executive Officer, Executive Secretariat, Equal Employment Opportunity Commission, 10th floor, 1801 “L” Street, NW., Washington, DC 20507; or by facsimile (“FAX”) machine to (202) 663-4114. (This is not a toll free number.) Only comments of six or fewer pages will be accepted via FAX transmittal, in order to assure access to the equipment. Receipt of FAX transmittals will not be acknowledged, except that the sender may request confirmation of receipt by calling the Executive Secretariat staff at (202) 663-4070 (voice) or (202) 663-4074 (TTD). (These are not toll free numbers).

All comments received by the EEOC will be posted without change to the Federal rulemaking portal, http://www.regulations.gov, including any personal information provided.

Copies of the comments also will be available for inspection in the EEOC Library, FOIA Reading Room, by advance appointment only, from 9 a.m. to 5 p.m., Monday through Friday except legal holidays, from August 25, 2008 until this item is finalized. To schedule an appointment to inspect the comments at the EEOC Library, FOIA Reading Room, contact the EEOC Library by calling (202) 663-4630 (voice) or (202) 663-4641 (TTY). (These are not toll free numbers). Persons who schedule an appointment in the EEOC Library, FOIA Reading Room, and need assistance to view the comments, will be provided with appropriate aids upon request, such as readers or print magnifiers.

FOR FURTHER INFORMATION CONTACT: Carol R. Miaskoff, Assistant Legal Counsel, 1801 L Street, NW., Washington, DC 20507; (202) 663-4638 (voice) or (202) 663-7026 (TTY). This notice is also available in the following formats: large print, Braille, audio tape and electronic file on computer disk. Requests for this notice in an alternative format should be made to the Publications Center at 1-800-669-3362.

SUPPLEMENTARY INFORMATION: A notice that the Equal Employment Opportunity Commission (EEOC or Commission) would be submitting the Uniform Guidelines on Employee Selection Procedures (UGESP or Uniform Guidelines) to the Office of Management and Budget (OMB), for a three-year approval under the Paperwork Reduction Act of 1995 (PRA), was published in the Federal Register on March 25, 2008, allowing for a 60-day public comment period. 73 FR 15754 (Mar. 25, 2008). At that time, the EEOC announced that it would submit the Uniform Guidelines without change from its original form as adopted in 1978, and without change in the original interpretive Qs & As adopted in 1979 and 1980. The Uniform Guidelines continue to provide fundamental and consistent federal guidance for all Title VII-covered employers about the use of employment selection procedures.

Nine parties submitted written comments in response to the March 2008 notice: five federal agencies (including two sister UGESP agencies concurring with the proposal) and four other parties, including representatives of federal contractors and businesses generally, a civil rights organization, and an economic consultant. Three parties focused their comments on responding to the PRA's mandatory questions about data utility and burden. Of these parties, two agreed that the UGESP recordkeeping requirements were necessary and useful for the EEOC's performance of its enforcement responsibilities and also accepted the EEOC's burden estimate. One commenter found the data collection was unnecessary and burdensome, and disagreed with the EEOC's burden estimate. The EEOC's burden calculation is based on contemporary, publicly-available data. It reflects the ongoing burden of collecting and storing demographic data for job applicants. Because UGESP remains unchanged, the burden estimate does not reflect the cost of new information systems or software.

Five commenters agreed with the EEOC's decision to submit UGESP for PRA authorization without change, including the Department of Labor and the Office of Personnel Management, sister UGESP agencies. The reasons include preserving consistency in regulation, preserving a necessary data tool, and not disturbing the now-standard business practice of collecting demographic data from applicants. As an enforcement agency, the EEOC believes that UGESP is a necessary recordkeeping tool, which also provides fundamental and consistent federal guidance for all Title VII-covered employers about the use of employment selection procedures.

Most commenters supported the decision not to finalize the UGESP agencies' proposed March 2004 subregulatory Qs and As. These proposed Qs and As defined electronic applicant for purposes of implementing the Uniform Guidelines. 69 FR 10152 (Mar. 4, 2004). Several parties cited the 2005 internet applicant regulation issued by Department of Labor's (DOL) OFCCP, the agency responsible for enforcement of Executive Order 11246, and two parties urged the Commission to consider alternative guidance after further study of the issues. Another party stated that UGESP and its existing Qs and As, without change, were sufficient. DOL's OFCCP concurred in the decision not to finalize the proposed Qs and As, and to submit UGESP without change to OMB. Maintaining UGESP in its current form is the appropriate course at this time.

Overview of This Information Collection

Collection Title: Recordkeeping Requirements of the Uniform Guidelines on Employee Selection Procedures, 29 CFR part 1607, 41 CFR part 60-3, 28 CFR part 50, 5 CFR part 300.

OMB Number: 3046-0017.

Form Number: None.

Frequency of Report: None.

Type of Respondent: Businesses or other institutions; federal government; state or local governments and farms.

North American Industry Classification System (NAICS) Code: Multiple.

Standard Industrial Classification Code (SIC): Multiple.

Description of Affected Public: Any employer, government contractor, labor organization, or employment agency covered by the federal equal employment opportunity laws.

Respondents: 846,156.

Responses: 846,156.

Cost to Respondents: $182,164,775.20.

Recordkeeping Hours: 14,822,194.89.

Number of Forms: None.

Federal Cost: 0.

Abstract: The records addressed by UGESP are used by respondents to assure that they are complying with Title VII and Executive Order 11246; by the Federal agencies that enforce Title VII and/or Executive Order 11246 to investigate, conciliate and litigate charges of employment discrimination; and by complainants to establish violations of Federal equal employment opportunity laws.

Burden Statement: There are no reporting requirements associated with UGESP. The burden being estimated is the cost of collecting and storing a job applicant's gender, race and ethnicity data. The only paperwork burden derives from this recordkeeping.

Only employers covered by Title VII and Executive Order 11246 are subject to UGESP. For the purpose of burden calculation, employers with 15 or more employees are counted. The number of such employers is estimated at 846,156, which combines estimates from private employment, the public sector, colleges and universities, and referral unions.

This burden assessment is based on an estimate of the total number of job applications submitted to all Title VII-covered employers in one year, including both paper-based and electronic applications. The total number of job applications submitted every year to covered employers is estimated to be 1,778,663,387, which is based on a National Organizations Survey average of 35.225 applications for every hire and a Bureau of Labor Statistics data estimate of 50,490,000 annual hires. It also includes 153,137 applicants for union membership reported on the EEO-3 form for 2006.

The employer burden associated with collecting and storing applicant demographic data is based on the following assumptions: applicants would need to be asked to provide three pieces of information—sex, race/ethnicity, and an identification number (a total of approximately 13 keystrokes); the employer would need to transfer information received to a data base either manually or electronically; and the employer would need to store the 13 characters of information for each applicant. Recordkeeping costs and burden are assumed to be the cost of entering 13 keystrokes.

Assuming that the required recordkeeping takes 30 seconds per record, and assuming a total of 1,778,663,387 paper and electronic applications per year, the resulting UGESP burden hours would be 14,822,194.89. Based on a wage rate of $12.29 per hour for the individuals entering the data, the collection and storage of applicant demographic data would come to approximately $182,164,775.20 per year for Title VII-covered employers.

Dated: July 17, 2008.
For the Commission.
Naomi C. Earp,
Chair.

[FR Doc. E8-17070 Filed 7-24-08; 8:45 am]

BILLING CODE 6570-01-P